DEPARTMENT OF COMMERCE

National Oceanic and Atmospheric Administration

50 CFR Part 660

[Docket No. 150316270-5662-02]

RIN 0648-XD843

Fisheries Off West Coast States; West Coast Salmon Fisheries; 2015 Management Measures; Correction

AGENCY: National Marine Fisheries Service (NMFS), National Oceanic and Atmospheric Administration (NOAA), Commerce.

ACTION: Final rule; correcting amendment.

SUMMARY: On May 5, 2015, NMFS published a final rule to implement fishery management measures for the 2015 ocean salmon fisheries off the coast of the states of Washington, Oregon, and California under the jurisdiction of the Pacific Fisheries Management Council (Council). This correcting amendment changes the date of an area closure in the recreational salmon fishery that was incorrect in the original rule; this will make the Federal rule consistent with State regulations.

DATES: This correction is effective August 10, 2015, until the effective date of the 2016 management measures, as published in the Federal Register.

FOR FURTHER INFORMATION CONTACT: Peggy Mundy at 206-526-4323.

SUPPLEMENTARY INFORMATION:

Need for Correction

On May 5, 2015, NMFS published a final rule (80 FR 25611) that implemented the fishery management measures for the 2015 ocean salmon fisheries off the coasts of the states of Washington, Oregon, and California under the jurisdiction of the (Council). On page 25620, in the first column, under the subheading “—Queets River to Leadbetter Point (Westpoint Subarea),” in the second paragraph, fifth sentence, an incorrect date was provided for the closure of the Grays Harbor Control Zone. Under Washington State regulations, the Grays Harbor Control Zone is closed beginning the second Monday in August. The Federal fishery management measures for the 2015 ocean salmon fisheries were intended to be consistent with the Washington State regulations and to include the same closing date. In 2015, the second Monday in August is August 10. However, the date for the second Monday in August in 2014 (August 11) was inadvertently left in the management measures for 2015, as originally published. To be consistent with the state regulations, as was intended, the correct date of the Grays Harbor Control Zone closure in 2015 is August 10, 2015. This rule corrects the closure date for the Grays Harbor Control Zone in 2015, from “August 11” to “August 10.” This correction was discussed during an inseason consultation among NMFS, the Council, Washington Department of Fish and Wildlife, Oregon Department of Fish and Wildlife, Salmon Advisory Subpanel, and Salmon Technical Team on July 21, 2015. Also, the date is correct in state regulations. Therefore, this correction is anticipated by the public and the regulatory agencies and its implementation will cause no harm.

Correction

In the Federal Register of May 5, 2015 (80 FR 25611), on page 25620, under the subheading “—Queets River to Leadbetter Point (Westport Subarea)”, the second paragraph, fifth sentence is corrected to read as follows:

“Grays Harbor Control Zone closed beginning August 10 (C.4.b).”

Classification

Pursuant to 5 U.S.C. 553(b)(B), the Assistant Administrator for Fisheries (AA) finds there is good cause to waive prior notice and an opportunity for public comment on this action, as notice and comment would be unnecessary and contrary to public interest. Notice and comment are unnecessary and contrary to the public interest because this action corrects an inadvertent error in regulations for a fishery that opened on July 1, and immediate notice of the error and correction is necessary to prevent confusion among participants in the fishery that could result from the existing conflict between state regulations and the final rule. This error was called to NMFS' attention on July 21, 2015. To effectively correct the error, this correction must be done as soon as possible prior to August 10, the date when the Grays Harbor Control Zone should be closed. There is not sufficient time for a notice and comment rulemaking prior to August 10. In addition, this action makes only a minor change to the dates of the fishery.

This correction will not affect the results of analyses conducted to support management decisions in the salmon fishery nor change the total catch of salmon. No change in operating practices in the fishery is required. For the same reasons, the AA has determined that good cause exists to waive the 30-day delay in effectiveness pursuant to 5 U.S.C. 553(d). Because prior notice and an opportunity for public comment are not required to be provided for this rule by 5 U.S.C. 553, or any other law, the analytical requirements of the Regulatory Flexibility Act, 5 U.S.C. 601 et seq., are not applicable. Accordingly, no Regulatory Flexibility Analysis is required for this rule and none has been prepared.

This final rule is not significant under Executive Order 12866.

Authority: 16 U.S.C. 773-773k; 1801 et seq.

Dated: July 31, 2015.
Samuel D. Rauch III,
Deputy Assistant Administrator for Regulatory Programs, National Marine Fisheries Service.

[FR Doc. 2015-19268 Filed 8-5-15; 8:45 am]

BILLING CODE 3510-22-P